DEPARTMENT OF AGRICULTURE

Forest Service

Yellowstone Pipeline Missoula to Thompson Falls Reroute, Lolo and Idaho Panhandle National Forests; Mineral, Missoula, and Sanders Counties, Montana, and Shoshone County, ID

AGENCY: Forest Service, USDA.

ACTION: Notice; revision of notice of intent to prepare an environmental impact statement.

SUMMARY: The Forest Service is revising previous notices of intent to prepare an environmental impact statement (EIS) regarding Yellowstone Pipe Line Company's proposals for a new petroleum products pipeline between Missoula and Thompson Falls, Montana, and to renew a special-use permit for an existing pipeline. The company has withdrawn its request for a new pipeline and now only seeks renewal of its special-use permit for its existing pipeline. In response, we have changed the schedule, scope, responsible official, and cooperating agencies for this EIS.

DATES: The final EIS should be released by July 2000.

ADDRESSES: Mail comments or inquiries regarding this notice to Terry Egenhoff, Environmental Coordinator, Lolo National Forest, Bldg. 24 Fort Missoula, MT 59804 7297.

FOR FURTHER INFORMATION CONTACT: Terry Egenhoff, (406) 329 3833.

SUPPLEMENTARY INFORMATION: This notice revises the Yellowstone Pipeline EIS notice published in the Federal Register on Friday, December 20, 1996 (61 FR 67302-67303), and revised in a notice published in the Federal Register on Thursday, May 20, 1999 (64 FR 27504-27505). The changes involve schedule, scope, responsible official, and cooperating agencies.

Background

The Draft EIS for this proposal was released on September 17, 1999. Since then, the Yellowstone Pipeline Company (YPL) has submitted two key changes affecting this EIS: (1) On November 9, 1999 YPL proposed to relocate five more miles of its existing line away from Prospect Creek and the North Fork Coeur d'Alene River, increasing the total proposed for relocation away from streams from the 3.5 miles YPL proposed in the Draft EIS to 9.8 miles; and (2) on February 15, 2000 YPL withdrew its application for a new pipeline route between Missoula and Thompson Falls. In January 2000 YPL requested that the Forest Service stop all work on the pending EIS. In February 2000 YPL requested that the Forest Service resume work to complete the EIS, but only for renewing the existing pipeline permit.

The Lolo National Forest will complete a Final EIS to renew the existing pipeline permit for National Forest System lands between Thompson Falls, Montana and Coeur d'Alene, Idaho. The Final EIS will focus on changes to the existing pipeline between Thompson Falls and Kingston, Idaho. All alternatives studied in detail in the Final EIS will assume that the current rail transportation of petroleum products between Missoula and Thompson Falls will continue.

Several alternatives in the Draft EIS released last September will be eliminated from detailed study in the Final EIS. Those are all the new-construction alternatives between Missoula and Thompson Falls and between Missoula and Kingston.

Schedule changes: The final EIS should be released by July 2000.

Scope changes: The scope of the final EIS will be limited to cover only modifications proposed to 60 miles of YPL's existing pipeline between Thompson Falls and Kingston, Idaho. The primary modification proposed is local relocation away from streams of about 10 miles of pipe in several separate locations. This reduced scope will involve only two counties: Sanders County, Montana and Shoshone County, Idaho. The only Federal lands involved in the new scope are National Forest System lands.

Responsible official changes: The responsible official for the decision resulting from this EIS is: Dale N. Bosworth, Regional Forester, USDA Forest Service, Northern Region, P.O. Box 7669, Missoula, MT 59807. No other Federal land management agencies are involved in the reduced scope. Therefore, the Bureau of Land Management no longer has any potential decision-making role.

Cooperating Agency changes: Formal EIS cooperating agencies (40 CFR 1501.6) include the Corps of Engineers, and the Montana Department of Environmental Quality (as lead agency for all Montana agencies). Other agencies with permitting or consulting roles that are involved in the preparation of this EIS include: USDOT Office of Pipeline Safety; USEPA, USFWS; FHWA; Montana DRNC; Montana DOT; Montana Fish, Wildlife, and Parks; Montana SHPO; Idaho DEQ; Idaho Dept. of Water Resources; Idaho Fish and Game, Idaho SHPO; Confederated Salish and Kootenai Tribes of the Flathead Nation; Sanders and Shoshone counties; and the Green Mountain Conservation District. The Bureau of Land Management and local agencies in Missoula and Mineral counties are no longer cooperating agencies since the current scope does not include their jurisdictions.

Authority: 40 CFR 1501.7; Forest Service Handbook 1909.15, sec. 21.2.

Dated: March 10, 2000.
Deborah L.R. Austin,
Forest Supervisor.

[FR Doc. 00-7896 Filed 3-29-00; 8:45 am]

BILLING CODE 3410-11-M